DEPARTMENT OF LABOR

Bureau of Labor Statistics

Business Research Advisory Council; Notice of Meetings and Agenda

The regular Spring meetings of the Business Research Advisory Council and its committees will be held on April 28 and 29, 2004. All of the meetings will be held in the Conference Center of the Postal Square Building, 2 Massachusetts Avenue NE., Washington, DC.

The Business Research Advisory Council and its committees advise the Bureau of Labor Statistics with respect to technical matters associated with the Bureau's program. Membership consists of technical officials from American business and industry.

The schedule and agenda for the meetings are as follows:

Wednesday, April 28, 2004—Conference Rooms 9 and 10

10-11:30 a.m.—Committee on Occupational Safety and Health

1. 2002 Survey of Occupational Injuries and Illnesses results

(a) December Summary release

(b) March Case and Demographics release

(c) New data on time of event and time shift started

2. Report on Internet data collection for 2003 survey

3. Special surveys

(a) Workplace Violence

(b) Respiratory Disease Agents

4. CFOI Chartbook

5. Budget update

6. Other business

7. Discussion of agenda items for the Fall 2004 meeting

1-2:30 p.m.—Committee on Price Indexes

1. Review of PPI NAICS conversion

2. The measurement of services in the IPP

3. The measurement of software prices in the PPI

4. The use of scanner data in the CPI

5. Discussion of agenda items for the Fall 2004 meeting

3-4:30 p.m.—Committee on Employment and Unemployment Statistics

1. Brief updates on release plans for the Job Openings and Labor Turnover Survey and Business Employment Dynamics programs—Jack Galvin

2. Quarterly Census of Employment and Wages (ES-202 Program) plans for republishing 1990-2000 data on a NAICS basis—Rick Clayton

3. Highlights of the 2002-2012 projections—Mike Horrigan

4. Current Employment Statistics (CES) plans for producing data on all employee hours and earnings and on total wages—Pat Getz

5. Review and discussion of CES experiences/lessons learned from the NAICS conversion—Pat Getz

6. Discussion of agenda items for the Fall 2004 meeting

Thursday, April 29, 2004—Conference Rooms 9 & 10

8:30-10 a.m.—Committee on Compensation and Working Conditions

1. Demonstration and discussion of the National Compensation Survey's Internet collection vehicle—Gayle Griffith

2. New Employee Benefit Data from NCS—Review of recently released information and plans for additional outputs—Wayne Shelly

3. Other topics and new business identified by the members

4. Discussion of agenda items for the Fall 2004 meeting

10:30 a.m.—12 p.m.—Council Meeting

1. Council Chair's remarks

2. Commissioner's remarks

3. Discussion of agenda items for the Fall 2004 council meeting

1:30-3 p.m.—Committee on Productivity and Foreign Labor Statistics

1. The role of outsourcing in the productivity measures

2. Recent developments in the industry productivity program

3. Cooperative work with the International Labor Organization (ILO) on comparisons of hourly compensation costs

4. Discussion of agenda items for the Fall 2004 meeting

The meetings are open to the public. Persons wishing to attend these meetings as observers should contact Tracy A. Jack, Liaison, Business Research Advisory Council, at (202) 691-5869.

Signed at Washington, DC, this 18th day of March, 2004.
Kathleen P. Utgoff,
Commissioner.

[FR Doc. 04-7007 Filed 3-29-04; 8:45 am]

BILLING CODE 4510-24-P